DEPARTMENT OF DEFENSE

Department of the Army; Corps of Engineers

Intent To Prepare a Draft Environmental Impact Statement for the PCS Phosphate Mine Continuation, Aurora, Beaufort County, NC

AGENCY: Department of the Army, U.S. Army Corps of Engineers, DoD.

ACTION: Notice of intent.

SUMMARY: PCS Phosphate Company, Inc., has applied for a Department of the Army permit to adversely impact 2,394 acres of wetlands to continue its surface mining operation on Hickory Point, adjacent to South Creek and its tributaries, near Aurora, in Beaufort County, North Carolina. The Draft Environmental Impact Statement (DEIS) will evaluate several alternatives to the proposed action including the No Action alternative. A Public Notice describing the project was issued on October 4, 2001 and was sent to all interested state and Federal resource agencies as well as the general public.

FOR FURTHER INFORMATION CONTACT: Questions about the proposed action and DEIS can be answered by: Mr. David Lekson, Chief, Washington Regulatory Field Office, U.S. Army Engineer District, Wilmington; Post Office Box 1000; Washington, DC 27889-1000; at (252) 975-1616, extension 22.

SUPPLEMENTARY INFORMATION: On August 27, 1997, PCS Phosphate was issued a Department of the Army (DA) permit to discharge adversely impact 1,268 acres of waters and wetlands to continue its mining operation pursuant to Alternative “E”, more fully described in the final Environmental Impact Statement for the project, dated August 1996.

On November 2, 2000, PCS Phosphate applied for DA authorization to continue its mining advance on the Hickory Point peninsula once reserves are depleted within Alternative “E”. On January 9, 2001, a Public Notice describing this proposal was circulated. According to the application, 2,530 acres of wetlands and 49 acres of open waters including navigable waters would be adversely impacted by the proposed mining advance. In response to comments received from the January 9, 2001, Public Notice and from the initial scoping comments received from the general public, State, Federal, and local agencies, PCS Phosphate elected to revise their application to reduce impacts to open waters and navigable waters as shown in the following table:

Proposed impacts | Number of acres
1. Creeks/Open Water | 4
2. Brackish Marsh Complex | 35
3. Bottomland Hardwood Forest | 120
4. Disturbed-Herbaceous Assemblage | 207
5. Disturbed-Scrub-Scrub Assemblage | 581
6. Pine Plantation | 745
7. Hardwood Forest | 209
8. Mixed Pine-Hardwood Forest | 314
9. Pine Forest | 100
10. Ponds | 19
11. “47% wetland” area | 60
Total | 2,394

Additionally, 1,028 acres of upland habitat are included in the mine continuation area for a total of 4,422 acres of disturbance.

Preliminary alternatives are currently being identified and include the applicant's proposal, additional avoidance alternatives on Hickory Point and mine blocks located in the area south of Aurora.

The applicant's stated purpose and need for the proposed work is to continue mining its phosphate reserve in an economically viable fashion. More specifically, this is defined as a long term (approximately 20 year) systematic and cost effective mine advance within the project area for the on-going PCS Phosphate mine operation near Aurora, NC. This application is being considered pursuant to Section 10 of the River and Harbor Act of 1899 (33 U.S.C. 403) and Section 404 of the Clean Water Act (33 U.S.C. 1344).

The Wilmington District will periodically issue additional Public Notices soliciting public and agency comment on the proposed action and alternatives to the proposed action as they are developed. It is also anticipated that a Public Hearing will be held to gather additional comment on the project. No date has been identified for the Public Hearing.

Luz D. Ortiz,
Army Federal Register Liaison Officer.

[FR Doc. 02-27720 Filed 10-30-02; 8:45 am]

BILLING CODE 3710-GN-M